EXPORT-IMPORT BANK

[Public Notice: 2024-3093]

Agency Information Collection Activities: Agency Information Collection Activities: Submission to the Office of Management and Budget for Review and Approval; Comment Request; EIB 92-79, Commissioned Broker Application Form

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995.

DATES: Comments must be received on or before December 16, 2024 to be assured of consideration.

ADDRESSES: Comments may be submitted electronically on WWW.REGULATIONS.GOV (EIB 92-79) or by mail to Office of Information and Regulatory Affairs, 725 17th Street NW, Washington, DC 20038, Attn: OMB 3048-0024.

FOR FURTHER INFORMATION CONTACT: To request additional information, please contact Jennifer Krause, jennifer.krause@exim.gov, 305.586.2022.

SUPPLEMENTARY INFORMATION: This form is used by insurance brokers to register with EXIM and by EXIM to make a determination of the eligibility of the broker to receive commission payments under Export-Import Bank's credit insurance programs.

The form can be viewed at: https://img.exim.gov/s3fs-public/pub/pending/eib92-79_2024_508.pdf.

Title and Form Number: EIB 92-79, Commissioned Broker Application Form.

OMB Number: 3048-0024.

Type of Review: Regular.

Need and Use: This form is used by insurance brokers to register with EXIM. The form provides EXIM staff with the information necessary to make a determination of the eligibility of the broker to receive commission payments under Export Import Bank's credit insurance programs. Our customers will be able to submit this form on paper or electronically.

Affected Public: This form affects entities engaged in brokering export credit insurance policies.

Annual Number of Respondents: 3.

Estimated Time per Respondent: 15 minutes.

Frequency of Reporting or Use: As needed.

Dated: November 12, 2024.
Andrew Smith,
Records Officer.

[FR Doc. 2024-26699 Filed 11-14-24; 8:45 am]

BILLING CODE 6690-01-P